FEDERAL COMMUNICATIONS COMMISSION

Notice of Public Information Collection(s) Being Reviewed by the Federal Communications Commission, Comments Requested

March 30, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before June 6, 2005. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at (202) 418-0214 or via the Internet at Judith-B.Herman@fcc.gov.

SUPPLEMENTARY INFORMATION: OMB Control No.: 3060-0169.

Title: Sections 43.51 and 43.53—Reports and Records of Communications Common Carriers and Affiliates.

Form No.: N/A.

Type of Review: Extension of a currently approved collection.

Respondents: Business or other for-profit.

Number of Respondents: 71 respondents; 374 responses.

Estimated Time Per Response: 85 hours.

Frequency of Response: On occasion and annual reporting requirements, recordkeeping requirement and third party disclosure requirement.

Total Annual Burden: 6,029 hours.

Total Annual Cost: N/A.

Privacy Act Impact Assessment: N/A.

Needs and Uses: Sections 211 and 215 of the Communications Act of 1934, as amended, requires that the FCC examine transactions of any common carriers relating to the activities of that carrier which may affect the charges and/or services rendered under the Act. The reports required by Sections 43.51 and 43.53 are the means by which the FCC gathers information concerning the activities of carriers which it examines. Section 43.51 also requires carriers to maintain copies of certain contracts, to have them readily accessible to Commission staff and members of the public upon request and to forward individual contracts to the Commission as requested.

The Commission is requesting an extension (no change in requirements) in order to obtain the full three-year clearance from OMB. As soon as the 60 day comment period is completed, the Commission will submit this collection to the Office of Management and Budget (OMB) for review and approval.

The information contained in these reports is used by the FCC to determine whether the activities reported have affected or are likely to affect adversely the carrier's service to the public or whether these activities result in undue or unreasonable increases in charges.

OMB Control No.: 3060-0742.

Title: Telephone Number Portability (47 CFR Part 52, Subpart C, §§ 52.21—52.33) and CC Docket No. 95-116.

Form No.: N/A.

Type of Review: Revision of a currently approved collection.

Respondents: Business or other for-profit.

Number of Respondents: 1,960.

Estimated Time Per Response: 85 hours.

Frequency of Response: On occasion, annual, and one-time reporting requirements, recordkeeping requirement and third party disclosure requirement.

Total Annual Burden: 14,333 hours.

Total Annual Cost: $84,000.

Privacy Act Impact Assessment: N/A.

Needs and Uses: Title 47 of the CFR, Part 52, Subpart C implements the statutory requirements that local exchange carriers (LECs) and Commercial Mobile Radio Service (CMRS) providers are to provide local number portability (LNP). This collection is being revised to include implementation of wireless carriers providing LNP. Wireline carriers began providing LNP in 1998. In a Memorandum Opinion and Order, FCC 02-215, CC Docket No. 95-116, the Commission extended the deadline for CMRS providers to offer LNP. Long-term number portability must be provided by LECs and CMRS providers in switches for which another carrier has made a specific request for number portability, according to the Commission's deployment schedule. Carriers that are unable to meet the deadlines for implementing a long-term number portability solution are required to file a petition (to extend the time by which implementation in its network will be completed) with the Commission at least 60 days advance of the deadline. Incumbent LECs must recover their carrier-specific costs directly related to providing long-term number portability by establishing in tariffs filed with the Commission certain number of portability charges. Incumbent LECs are required to include many details in this cost support that are unique to the number portability proceeding pursuant to the Cost Classification Order. For instance, incumbent LECs must demonstrate that any incremental overhead costs claimed in their cost support are actually new costs incremental to and resulting from the provision of long-term number portability. Incumbent LECs are required to maintain records that detail both the nature and specific amount of these carrier-specific costs that are directly related to number portability, and those carrier-specific costs that are not directly related to number portability.

OMB Control No.: 3060-0678.

Title: Part 25 of the Commission's Rules Governing the Licensing of, and Spectrum Usage by, Satellite Network Earth Stations and Space Stations.

Form No.: FCC Form 312, Schedule S.

Type of Review: Revision of a currently approved collection.

Respondents: Business or other for-profit.

Number of Respondents: 3,001.

Estimated Time Per Response: 11 hours.

Frequency of Response: On occasion, annual, and other reporting requirements and third party disclosure requirement.

Total Annual Burden: 41,279 hours.

Total Annual Cost: $531,874,875.

Privacy Act Impact Assessment: N/A.

Needs and Uses: On March 10, 2005, the Commission adopted a Fifth Report and Order and Order in IB Docket No. 00-248, FCC 05-63. The Fifth Report and Order adopts streamlined procedures for non-routine earth station applications. For applications to use smaller-than-routine antennas, the Commission gives earth station applicants a choice of two procedures: (1) Providing certifications that the proposed earth station has been coordinated with adjacent satellite operators; and (2) showing that the earth station operator will reduce its power sufficiently to compensate for the higher gain levels of the smaller antenna. For applications to use high-than-routine power levels, the Commission allows earth station applicants to use the certification procedure discussed above. This collection of information will enable the Commission to license non-routine earth stations faster, and thus, encourage deployment of broadband internet access, while also carrying out its duties as required by the Communications Act.

After this 60 day comment period is completed, the Commission will submit this information collection to the Office of Management and Budget (OMB) for review and approval.

Federal Communications Commission.
Marlene H. Dortch,
Secretary.

[FR Doc. 05-6809 Filed 4-5-05; 8:45 am]

BILLING CODE 6712-01-P